DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before May 24, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on April 11, 2023.
Donald P. Burger,
Chief, General Approvals and Permits Branch.

Special Permits Data
Application No. | Applicant | Regulation(s) affected | Nature of the special permits thereof
21536-N | WAE Technologies Limited | 172.101(j), 173.185(b)(6) | To authorize the transportation in commerce of lithium ion batteries exceeding 35 kg net weight aboard cargo-only aircraft. (mode 4).
21538-N | Evolve Renewable Materials, Inc | 107.107(a), 107.109, 107.601, 171.15, 171.16, 172.704, 172.304, 172.101, 172.102(c), 173.22(a), 173.185(a), 173.185(c) | To authorize the manufacture, mark, sale and use of specifically designed packaging for the transportation in commerce of certain batteries without shipping papers and certain marking and labeling when transported for recycling or disposal. (modes 1, 2).
21539-N | Rivian Automotive, Inc | 173.185(c)(1)(iii) | To authorize the transportation in commerce of lithium batteries via motor vehicle using alternate hazard communication. (mode 1).
21540-N | Kidde Technologies Inc | 173.302a | To authorize the manufacture, mark, sale, and use of non-DOT specification cylinders, similar to DOT 4DS, for the transportation of certain hazardous materials. (modes 1, 2, 3, 4, 5).
21541-N | S. C. Johnson & Son, Inc | 178.33-7 | To authorize the manufacture, mark, sale, and use of non-DOT specification inner receptacles similar to the 2P specification, except that the wall thickness is reduced. (modes 1, 2, 3, 4, 5).
21542-N | Samsung SDI. Co., Ltd | 172.101(j) | To authorize the transportation in commerce of lithium batteries exceeding 35 kg by cargo-only aircraft. (mode 4).
21543-N | Consumer Product Safety Commission, United States | 173.185(a)(1) | To authorize the transportation in commerce of lithium batteries that are not of a type proven to meet the criteria of the UN Manual of Tests and Criteria 38.3, by motor vehicle. (mode 1).
21544-N | Astra Space Operations, Inc | 173.301(f)(1) | To authorize the transportation in commerce of a specification cylinder containing a Division 2.2 gas (incorporated into a propulsion module) that is not equipped with a pressure relief device. (modes 1, 3, 4).

[FR Doc. 2023-08588 Filed 4-21-23; 8:45 am]

BILLING CODE P